SOCIAL SECURITY ADMINISTRATION

Agency Information Collection Activities: Comment Request

The Social Security Administration (SSA) publishes a list of information collection packages requiring clearance by the Office of Management and Budget (OMB) in compliance with Public Law (Pub. L.) 104-13, the Paperwork Reduction Act of 1995, effective October 1, 1995. This notice includes revisions to OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, E-mail address: OIRA_Submission@omb.eop.gov.

(SSA) Social Security Administration, DCBFM, Attn: Reports Clearance Officer, 1333 Annex Building, 6401 Security Blvd., Baltimore, MD 21235, Fax: 410-965-6400, E-mail address: OPLM.RCO@ssa.gov.

SSA submitted the information collections listed below to OMB for clearance. Your comments on the information collections would be most useful if OMB and SSA receive them within 30 days from the date of this publication. To be sure we consider your comments, we must receive them no later than December 17, 2010. You can obtain a copy of the OMB clearance packages by calling the SSA Reports Clearance Officer at 410-965-8783 or by writing to the above e-mail address.

1. Private Printing and Modification of Prescribed Application and Other Forms—20 CFR 422.527—0960-0663. 20 CFR 422.527 of the Code of Federal Regulations requires a person, institution, or organization (third-party entities) to obtain approval from SSA prior to reproducing, duplicating, or privately printing any application or other form the agency owns. SSA collects the information to ensure requests comply with the law and regulations. SSA uses the information to process requests from third-party entities who want to reproduce, duplicate, or privately print any SSA application or other SSA form. To obtain SSA's approval, entities must make their requests in writing, using their company letterhead, providing the required information set forth in the regulation. SSA employees review the requests and provide approval via e-mail or mail to the third-party entities. The respondents are third-party entities who submit requests to SSA to reproduce, duplicate, or privately print an SSA-owned form.

Type of Request: Extension of an OMB-approved information collection.

Number of Respondents: 10.

Frequency of Response: 15.

Number of Responses: 150.

Average Burden Per Response: 8 minutes.

Estimated Annual Burden: 20 hours.

2. Request for Waiver of Special Veterans Benefits (SVB) Overpayment Recovery or Change in Repayment Rate—20 CFR 408.900-408.950, 408.923(b), 408.931(b), 408.932(c), (d) and (e), 408.941(b) and 408.942—0960-0698. Title VIII of the Social Security Act allows SSA to pay a monthly benefit to a qualified World War II veteran who resides outside the United States. When an overpayment in SVB occurs, the beneficiary can request a waiver of recovery of the overpayment or a change in the repayment rate. SSA uses the SSA-2032-BK to obtain the information necessary to establish whether the claimant met the waiver of recovery provisions of the overpayment, and to determine the repayment rate if we do not waive repayment. Respondents are beneficiaries who have overpayments on their Title VIII record and wish to file a claim for waiver of recovery or change in repayment rate.

Type of Request: Revision of an OMB-approved information collection.

Number of Respondents: 450.

Frequency of Response: 1.

Average Burden per Response: 120 minutes.

Estimated Annual Burden: 900 hours.

3. Consent Based Social Security Number Verification Process—20 CFR 400.100—0960-0760. The Consent Based Social Security Number (SSN) Verification (CBSV) process is a fee-based, automated SSN verification service available to private businesses and other requesting parties. To use the system, private businesses and requesting parties must register with SSA and obtain valid consent from SSN number holders prior to verification. We collect the information to verify if the submitted name and SSN match the information in SSA records. After completing a registration process and paying the fee, the requesting party can use the CBSV Internet application to submit a file containing names of number holders who have given valid consent, along with each number holder's accompanying SSN and date of birth (if available). They also have the option to obtain real-time results using a web service application or SSA's Business Services Online application.

SSA matches the information against the SSA master file of SSNs, using SSN, name, date of birth, and gender code (if available). The requesting party retrieves the results file from SSA, which indicates only a match or no match for each SSN submitted.

Under the CBSV process, the requesting party does not submit the consent forms of the number holders to SSA. SSA requires each requesting party to retain a valid consent form for each SSN verification request. The requesting party retains the consent forms in either electronic or paper format.

To ensure the integrity of the CBSV process, SSA added a strong audit component that requires audits (called “compliance reviews”) at the discretion of the agency with all audit costs paid by the requesting party. Independent certified public accountants (CPA) conduct these reviews to ensure compliance with all the terms and conditions of the party's agreement with SSA, including a review of the consent forms. CPAs conduct the review at the requesting party's place of business to ensure the integrity of the process. In addition, SSA reserves the right to perform unannounced onsite inspections of the entire process, including review of the technical systems that maintain the data and transaction records. The respondents to the CBSV collection are the participating companies, members of the public who consent to the SSN verification, and CPAs who provide compliance review services.

Type of Request: Revision of an OMB-approved information collection.

Note: When SSA published the 60-day Federal Register notice for this collection on August 2, 2010 at 75 FR 45190, the burden figures we reported were correct at that time. We have updated the burden data that we are reporting in the burden chart below.

Time Burden

Participating Companies:

Requirement | Number of respondents | Frequency of response | Number of responses | Average burden per response (minutes) | Estimated annual burden (hours)
Registration Process (new participating companies or requesting parties) | 10 * | 1 | 10 | 120 | 20
Creation of file with SSN holder identification data; maintaining required documentation, forms | 115 | 251 * * | 28,865 | 60 | 28,865
Using the system to upload request file, check status, and download results file | 115 | 251 | 28,865 | 5 | 2,405
Storing Consent Forms | 115 | 251 | 28,865 | 60 | 28,865
Activities related to compliance review | 115 | 251 | 28,865 | 60 | 28,865
Total |  |  | 115,470 |  | 89,020
* One-time registration; approximately 10 new participating companies per year.
* * Please note: There are 251 Federal business days per year on which a requesting party could submit a file.

People whose SSNs SSA Will Verify:

Requirement | Number of respondents | Frequency of response | Number of responses | Average burden per response (minutes) | Estimated annual burden (hours)
Reading and signing authorization for SSA to release SSN verification | 986,585 | 1 | 986,585 | 3 | 49,329
Responding to CPA re-contact | 5,750 | 1 | 5,750 | 5 | 479
Total | 992,335 |  |  |  | 49,808

CPAs (conducting compliance reviews and preparing written report of findings):

Number of Respondents: 115.

Frequency of Response: 1.

Average Burden Per Response: 4,800.

Estimated Annual Burden: 9,200 hours.

Total Collective Burden: 148,028.

Cost Burden

The public burden cost is dependent upon the number of companies and transactions. SSA based the cost estimates below upon 115 participating companies submitting 986,585 transactions. The total cost for developing the system was $5.6 million. SSA has already expended $3.0 million we will recoup over the depreciable life of the system based on the fee per-transaction model.

One-Time Per Company Registration Fee—$5,000.

Estimated Per SSN Transaction Fee—$5.00.ⁱ

ⁱ The annual costs associated with the transaction to each company are dependent upon the number of SSN transactions submitted to SSA by the company on a yearly basis. For example, if a company anticipates submitting 1 million requests to SSA for the year, its total transaction cost for the year would be $5 × 1,000,000 or $5,000,000. Periodically, SSA will calculate its costs to provide CBSV services and adjust the fee charged as needed. SSA will notify companies in writing of any change and companies will have the opportunity to cancel the agreement or continue service using the new transaction fee.

Estimated Per Company Cost to Build Optional Web Service—$200,000.ⁱⁱ

ⁱⁱ A company may choose to submit batch files via the SSA web site or submit real-time individual requests via the SSA Web site. There is no public burden cost with either of these methods using the CBSV system. Companies are not required to purchase SSA's Web design service. To date, no participating companies have opted for this service.

Estimated Per Company Cost to Store Consent Forms—$300.

Estimated Per Company Cost To Contract with CPA for Audit—$8,000.

Dated: November 10, 2010.
Liz Davidson,
Center Director, Social Security Administration.

[FR Doc. 2010-28926 Filed 11-16-10; 8:45 am]

BILLING CODE 4191-02-P